DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2010 Census Quality Survey.

Form Number(s): D-1R1.

OMB Control Number: None.

Type of Request: New collection.

Burden Hours: 43,810.

Number of Respondents: 262,857.

Average Hours per Response: 10 minutes.

Needs and Uses: As the 2010 Census nears, planning for the 2020 Census is already underway. One particular area of interest for the 2020 Census is to make the Census cost-effective and accurate. The Census Bureau will explore the use of the Internet for the 2020 Census as an alternative means for the public to respond to the Census. Therefore, we have established the 2010 Census Quality Survey (CQS), formerly known as the Internet Reinterview Evaluation, as a research component under the 2010 Census Program for Evaluations and Experiments (CPEX).

Projects under the 2010 CPEX will guide future census design as well as benefit other ongoing programs conducted by the Census Bureau, such as the American Community Survey.

As with previous decennial censuses dating back to 1950, the Census Bureau conducts a formal program to assess the census and experimental tests that examine methodologies, techniques, and strategies that will potentially improve the way the Census Bureau conducts the next decennial census. For experimental studies, the actual decennial census environment is required because it provides the necessary conditions to learn the true effects of new ideas within the context of the actual effects of national advertising, outreach partnerships, and other events that occur only during a census.

The 2010 CQS seeks to build on previous Internet data collection research in order to set the stage for the Internet testing cycle for the 2020 Census. The main objective is to estimate measurement errors, such as simple response variance and bias of responses from a census mail questionnaire compared to those from a census Internet questionnaire. The reinterviews will be conducted with a sample of 2010 Census mail respondents in order to provide estimates of measurement errors associated with the design and content of a self-administered census Internet questionnaire. Since the measurement error structure may differ depending on whether a respondent has only one response mode option (i.e. mail or Internet) versus having a choice between the two modes, we are testing both ‘push’ and ‘choice’ strategies. A sample of the 2010 Census mail questionnaire respondents will be invited to complete an Internet reinterview (‘push’ Internet), which has the same content as the 2010 mail questionnaire. A separate sample of the 2010 Census mail questionnaire respondents will be invited to complete a mail reinterview (‘push’ mail) with the same 2010 content. A third sample of the 2010 Census mail questionnaire respondents will be invited to complete a reinterview with the choice of mail or Internet modes (‘choice’ Internet/mail).

The data from the Internet reinterview will be compared with the data from the mail reinterview to provide additional information for estimating measurement errors associated with responses from each of the data collection modes as well as response option strategies. Internet reinterview data will also be compared to 2010 Census mail questionnaire data for the same households to estimate gross difference rates. A similar comparison will be made for the mail reinterview to estimate gross difference rates for the mail mode. These gross difference rates will be compared to estimate the measurement error that arises from Internet versus census mail questionnaires. In addition to estimating measurement errors, a key objective of the evaluation is to collect data related to respondent interaction with a census Internet questionnaire such as break-off rates and completion times. Laboratory usability testing will also provide data (e.g., eye-tracking and mouse-tracing results) on navigational issues. Note that we are currently considering tracing mouse movement for a sample of survey respondents, which would include presentation of an informed consent statement.

The Internet and mail reinterviews will be conducted in late summer of 2010, after the census enumeration activities have been completed, to minimize the risk to the 2010 Census data collection. However, the reinterviews will be conducted as close to the census enumeration as feasible to effectively compare reinterview results to the 2010 Census self-administered mail questionnaire. Presumably, the results collected within the census environment will reflect a more generalizable measurement error structure than results from a mid-decade census test instrument. In addition, we hope to capitalize on respondents' awareness of the 2010 Census to obtain a higher response to the reinterviews than would be possible in the absence of the 2010 Census environment. However, for the Internet reinterview, compliance may suffer from public messaging informing potential respondents that there is no Internet response option in the 2010 Census.

As with all CPEX experiments and evaluations, the 2010 CQS is primarily designed for use by the Census Bureau to inform early 2020 Census testing and planning. The intent is to use the 2010 CQS quantitative results, in combination with the usability laboratory results, to focus the Census Bureau's Internet development/design resources for early decade testing. This questionnaire design work will be integrated with response option and contact strategy research within the 2020 testing cycle to establish the optimal Internet data collection strategy for the 2020 Census.

The 2010 CQS is intended to provide estimates of measurement error associated with the design and content of a self-administered census Internet questionnaire. The overall goal is to design the most effective census Internet questionnaire, given the time and resource constraints, and then evaluate its associated measurement error and usability issues. The Internet instrument is not intended to simply replicate the 2010 Census mail questionnaire in an electronic mode. Rather, the goal is to evaluate measurement error associated with an Internet questionnaire that exploits the advantages of the electronic technology, while still retaining the meaning and intent of the questions and response options from the mail form. Likewise, this evaluation is not intended to evaluate public compliance (as measured by unit-level response rates). An Internet response strategy study within the 2010 Census production cycle (or shortly after) would be limited by the 2010 Integrated Communication Program (ICP) messages stating that there is no Internet data collection for the 2010 Census.

Affected Public: Individuals or households.

Frequency: One-time only.

Respondent's Obligation: Voluntary.

Legal Authority: Title 13, United States Code, Sections 141 and 193.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: March 26, 2010.
Glenna Mickelson,
Management Analyst, Office of the Chief Information Officer.

[FR Doc. 2010-7177 Filed 3-30-10; 8:45 am]

BILLING CODE 3510-07-P